DEPARTMENT OF COMMERCE

National Oceanic and Atmospheric Administration

[RTID 0648-XE774]

Pacific Fishery Management Council; Public Hearings

AGENCY: National Marine Fisheries Service (NMFS), National Oceanic and Atmospheric Administration (NOAA), Commerce.

ACTION: Notice of public meeting, hearings, and public comment opportunities.

SUMMARY: The Pacific Fishery Management Council (Pacific Council) will convene two public hearings regarding the trawl catch share program review.

DATES: The hearings will be held on Thursday, April 24, 2025, from 1 p.m. to 4 p.m., Pacific Time (PT) and Monday, April 28, 2025, from 5:30 p.m. to 8:30 p.m., PT. Hearing times are an estimate, hearings will end when business for the day has been completed.

ADDRESSES: The first hearing on April 24, 2025, will be held online. The second hearing on April 28, 2025, will be held in Astoria, OR. Meeting location and specifics will be posted on the Pacific Council's website (www.pcouncil.org) when available.

Council address: Pacific Fishery Management Council, 7700 NE Ambassador Place, Suite 101, Portland, OR 97220-1384.

FOR FURTHER INFORMATION CONTACT: Jessi Waller, Pacific Council; telephone: (503) 820-2415.

SUPPLEMENTARY INFORMATION: Periodic reviews of catch shares program are required by the Magnuson-Stevens Fishery Conservation and Management Act. The Pacific Council initiated its second review of the trawl catch share program in 2022 and is scheduled to receive a preliminary draft of the review document in September 2025. The two hearings will provide a general briefing on the state of the catch share program since the last review completed in 2017 and provide an opportunity for stakeholder feedback on how the program is performing.

Although non-emergency issues not contained in the meeting agenda may be discussed, those issues may not be the subject of formal action during these hearings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@pcouncil.org; (503) 820-2412) at least 10 days prior to the hearing date.

Authority: 16 U.S.C. 1801 et seq.

Dated: March 13, 2025.
Rey Israel Marquez,
Acting Deputy Director, Office of Sustainable Fisheries, National Marine Fisheries Service.

[FR Doc. 2025-04425 Filed 3-17-25; 8:45 am]

BILLING CODE 3510-22-P